DEPARTMENT OF COMMERCE

International Trade Administration

[A-570-863]

Honey from the People's Republic of China: Initiation of New Shipper Antidumping Duty Reviews

AGENCY: Import Administration, International Trade Administration, Department of Commerce.

DATES: Effective Date: February 4, 2010.

SUMMARY: The Department of Commerce (“Department”) has determined that two requests for new shipper reviews (“NSRs”) of the antidumping duty order on honey from the People's Republic of China (“PRC”), received on December 10, 2009, and December 12, 2009, respectively, meet the statutory and regulatory requirements for initiation. The period of review (“POR”) of these two NSRs is December 1, 2008 through November 30, 2009.

FOR FURTHER INFORMATION CONTACT: Irene Gorelik, AD/CVD Operations, Office 9, Import Administration, International Trade Administration, U.S. Department of Commerce, 14th Street and Constitution Avenue, NW, Washington, DC 20230; telephone: (202) 482-6905.

SUPPLEMENTARY INFORMATION:

Background

The antidumping duty order on honey from the PRC was published in the Federal Register on December 10, 2001. See Notice of Amended Final Determination of Sales at Less Than Fair Value and Antidumping Duty Order; Honey from the People's Republic of China, 66 FR 63670 (December 10, 2001) (“Order”). On December 10, 2009, and December 12, 2009, pursuant to section 751(a)(2)(B)(i) of the Tariff Act of 1930, as amended (“Act”), and 19 CFR 351.214(c), the Department received two timely filed requests for a NSR of the Order from Suzhou Shanding Honey Product Co., Ltd. (“Suzhou Shanding”) and Wuhu Fenglian Co., Ltd. (“Wuhu Fenglian”), respectively. Both Suzhou Shanding and Wuhu Fenglian have certified that they are both the producer and exporter of the subject merchandise upon which the request for the NSRs are based.

The Department conducted queries for data from the U.S. Customs and Border Protection (“CBP”) and requested CBP entry document packages to confirm that the shipments made by Suzhou Shanding and Wuhu Fenglian had officially entered the United States via assignment of an entry date in the CBP database.¹ In addition, the Department confirmed the existence of Suzhou Shanding and Wuhu Fenglian and their corresponding U.S. customers.

¹ The Department placed the business proprietary CBP data on the record and released it to interested parties under the Administrative Protective Order. See “Memorandum to the File from Blaine Wiltse; Placing CBP Data on the Record of New Shipper Reviews of Honey from the People's Republic of China,” dated January 8, 2010, and “Memorandum to the File from Irene Gorelik; Placing Second Run of CBP Data on the Record of New Shipper Reviews of Honey from the People's Republic of China,” dated January 22, 2010.

Initiation of New Shipper Reviews

Pursuant to section 751(a)(2)(B) of the Act and 19 CFR 351.214(d)(1), the Department finds that Suzhou Shanding and Wuhu Fenglian meet the threshold requirements for initiation of a NSR for the shipment of honey from the PRC they produced and exported. See “Memorandum to File through James C. Doyle, Director, Office 9 from Catherine Bertrand, Program Manager, Office 9; Re: Honey from the People's Republic of China: Initiation of AD New Shipper Review for Suzhou Shanding Honey Product Co., Ltd.” dated January 31, 2010 and “Memorandum to File through James C. Doyle, Director, Office 9 from Catherine Bertrand, Program Manager, Office 9; Re: Honey from the People's Republic of China: Initiation of AD New Shipper Review for Wuhu Fenglian Co., Ltd.,” dated January 31, 2010.

The Department intends to issue the preliminary results of these NSRs no later than 180 days from the date of initiation, and final results no later than 270 days from the date of initiation. See section 751(a)(2)(B)(iv) of the Act.

Because both Suzhou Shanding and Wuhu Fenglian certified that they produced and exported subject merchandise, the sales of which form the basis for their respective requests for a new shipper review, we will instruct CBP to allow, at the option of the importer until the completion of the reviews, the posting of a bond or security in lieu of a cash deposit for each entry of the subject merchandise produced and exported by Suzhou Shanding and produced and exported by Wuhu Fenglian in accordance with section 751(a)(2)(B)(iii) of the Act and 19 CFR 351.214(e). The bonding privilege will apply only to subject merchandise produced and exported by Suzhou Shanding and subject merchandise produced and exported by Wuhu Fenglian.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: January 29, 2010.
John M. Andersen,
Acting Deputy Assistant Secretary for Antidumping and Countervailing Duty Operations.

[FR Doc. 2010-2415 Filed 2-3-04; 8:45 am]

BILLING CODE 3510-DS-S